DEPARTMENT OF TRANSPORTATION

Federal Aviation Administration

Notice of Availability of Record of Decision for the Environmental Impact Statement Approving an Operations Specifications Amendment for Horizon Air to Provide Scheduled Air Service to and From Mammoth Yosemite Airport, Mammoth Lakes, Mono County, CA

AGENCY: Federal Aviation Administration, DOT.

ACTION: Notice of availability of Record of Decision.

SUMMARY: The Federal Aviation Administration (FAA) is issuing this notice to advise the public that it has published a Record of Decision (ROD) for the Environmental Impact Statement (EIS) that evaluated proposed approval of an Operations Specifications Amendment to allow Horizon Air to conduct scheduled air service to Mammoth Yosemite Airport (MMH). FAA approved the ROD on May 14, 2008.

FOR FURTHER INFORMATION CONTACT: Mr. Chuck Cox, Regional Environmental Technical Specialist, Northwest Mountain Region, Flight Standards Division, 1601 Lind Avenue, SW., Renton, WA 98055, Phone: (425) 227-2243, Fax: (425) 227-1200.

SUPPLEMENTARY INFORMATION: Pursuant to the National Environmental Policy Act, notice is hereby given that the U.S. Department of Transportation—Federal Aviation Administration (FAA) issued a Record of Decision (ROD) approving the proposed Horizon Air Operations Specifications Amendment to allow scheduled air service to Mammoth Yosemite Airport (MMH) on May 14, 2008. The ROD documents the FAA's decision to approve the federal actions necessary to implement Horizon Air's requested Operations Specifications Amendment that permits scheduled air service to and from MMH using Bombardier DHC 8-400 (Q-400) turbopropeller powered aircraft. Horizon Air may proceed with implementing commercial air service with two daytime flights between MMH and Los Angeles International Airport beginning in the winter ski season of 2008/2009 (approximately December to April) provided the Town of Mammoth Lakes obtains a 14 CFR Part 139 Class 1 Airport Operating Certificate for MMH.

The ROD was based on the FAA's Final Environmental Impact Statement, dated March 2008, that evaluated Horizon Air's Request for Operations Specifications Amendment to Provide Scheduled Air Service to Mammoth Yosemite Airport. The Notice of Availability for the Final EIS was published in the Federal Register on April 4, 2008 (73 FR 18527). The Final EIS considered two alternatives in detail, including the No Action Alternative and the proposed amendment to Horizon Air's Operations Specifications.

Copies of the ROD and the Final EIS are available for review at the following locations during normal business hours:

U.S. Department of Transportation, Federal Aviation Administration, Northwest-Mountain Region, Flight Standards Division, 1601 Lind Avenue, SW., Renton, Washington 98055; U.S. Department of Transportation, Federal Aviation Administration, Western-Pacific Region, San Francisco Airports District Office, 831 Mitten Road, Burlingame, California 94010;

U.S. Department of Transportation, Federal Aviation Administration, Western-Pacific Region, Office of the Airports Division, 15000 Aviation Boulevard, Hawthorne, California 9026;

U.S. Department of Transportation, Federal Aviation Administration, National Headquarters, Planning and Environmental Division, 800 Independence Avenue, SW, Washington, DC 20591;

Administrative Offices at Mammoth Yosemite Airport; 1 Airport Road, Mammoth Lakes, California 93546;

Town of Mammoth Lakes City Office, 437 Old Mammoth Road, Suite R, Mammoth Lakes, California 93546;

Mono County Library Mammoth Lakes Branch, 960 Forest Trail, Mammoth Lakes, California, 93546;

Inyo County Library, Bishop Branch, 210 Academy Avenue, Bishop, California, 93514.

Questions may be directed to the individual above under the heading FOR FURTHER INFORMATION CONTACT.

Issued in Hawthorne, California, on May 27, 2008.
George E. Aiken,
Acting Manager, Airports Division, Western-Pacific Region, AWP-600.

[FR Doc. E8-12772 Filed 6-9-08; 8:45 am]

BILLING CODE 4910-13-M